FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

InterCaribbean Cargo, Inc., 8080 NW 71st Street, Miami, FL 33166, Officer: Ramona A. Lopez, President (Qualifying Individual).

The One Shipping Inc., 19390 East Fadden Street, Rowland Heights, CA 91748, Officers: San Wei Huang, CFO (Qualifying Individual), Chiao Ling Dong, CEO.

International Express Inc., 11435 NW 34th Street, Miami, FL 33178, Officers: Susan Pollard, Director (Qualifying Individual), Mala Veerasawmy, President.

Non-Vessel—Operating Common Carrier and Ocean Freight Forwarder Transportation Intermediary Applicants

United Aircraft Sales, Corp. dba ILS Cargo USA, 7517-21 NW 52 Street, Miami, FL 33166, Officers: Marlen Estevez, Account Executive (Qualifying Individual), Rafael Mosquera, Vice President.

USL, Inc. dba USL Logistics, 3621 S. Harbor Blvd., Suite 225, Santa Ana, CA 92704, Officers: Robert A. Beilin, Sen. Vice President (Qualifying Individual), Edward W. Aldridge, President.

Ocean Freight Forwarder—Ocean Transportation Intermediary Applicants

Pro Packing, Inc., 100 Broad Avenue, Wilmington, CA 90477, Officer: Greg Sanden, President (Qualifying Individual).

Rohclem Corporation, 2005 Bierce Drive, Virginia Beach, VA 23454, Officer: Melchor C. Lazo, II, President (Qualifying Individual).

Dated: February 4, 2005.
Bryant L. VanBrakle,
Secretary.

[FR Doc. 05-2525 Filed 2-8-05; 8:45 am]

BILLING CODE 6730-01-P